DEPARTMENT OF HOMELAND SECURITY

Coast Guard

33 CFR Part 100

[Docket No. USCG-2024-0825]

Special Local Regulations; Marine Events Within the Fifth Coast Guard District

AGENCY: Coast Guard, DHS.

ACTION: Notification of enforcement of regulation.

SUMMARY: The Coast Guard will enforce a special local regulation for the Manasquan Inlet Intracoastal Tug on October 13, 2024, with a rain date of October 19, 2024, to provide for the safety of life on navigable waterways during this event. Our regulation for marine events within the Fifth Coast Guard District identifies the regulated area for this event in Manasquan, NJ and Point Pleasant Beach, NJ. During the enforcement periods, the operator of any vessel in the regulated area must comply with directions from the Patrol Commander or any Official Patrol displaying a Coast Guard ensign.

DATES: The regulations in 33 CFR100.501 for the Manasquan Inlet Intracoastal Tug will be enforced from noon through 2:30 p.m. October 13, 2024, with a rain date of October 19, 2024, during the same times.

FOR FURTHER INFORMATION CONTACT: If you have questions about this notification of enforcement, call or email Petty Officer Jonathan Lougheed, U.S. Coast Guard, Sector Delaware Bay, Waterways Management Division, telephone: 215-271-4902, Email: SecDelBayWWM@uscg.mil.

SUPPLEMENTARY INFORMATION: The Coast Guard will enforce special local regulations in Table 1 to Paragraph (i)(1) of 33 CFR 100.501 for the Manasquan Inlet Intracoastal Tug regulated area from noon to 2:30 p.m. on October 13, 2024, with a rain date of October 19, 2024, during the same times. This action is being taken to provide for the safety of life on navigable waterways during this event. Our regulation for marine events within the Fifth Coast Guard District, § 100.501, specifies the location of the regulated area for the Manasquan Inlet Intracoastal Tug which encompasses portions of the Manasquan Inlet. As reflected in § 100.501(d)(2), during the enforcement periods, if you are the operator of a vessel in the regulated area you must comply with directions from the Patrol Commander or any Official Patrol displaying a Coast Guard ensign.

In addition to this notification of enforcement in the Federal Register, the Coast Guard plans to provide notification of this enforcement period via the Local Notice to Mariners, and marine information broadcasts.

Dated: October 8, 2024.
Kate F. Higgins-Bloom,
Captain, U.S. Coast Guard, Captain of the Port, Delaware Bay.

[FR Doc. 2024-23919 Filed 10-16-24; 8:45 am]

BILLING CODE 9110-04-P